DEPARTMENT OF HEALTH AND HUMAN SERVICES

Centers for Medicare & Medicaid Services

SES Performance Review Board

ACTION: Notice.

SUMMARY: Notice is hereby given of the appointment of members of the CMS Senior Executive Service (SES) Performance Review Board.

EFFECTIVE DATE: December 8, 2003.

FOR FURTHER INFORMATION CONTACT: Donna Mueller, Executive Resources Management Team, Office of Operations Management, Centers for Medicare and Medicaid Services, C2-12-16, 7500 Security Boulevard, Baltimore, MD 21244-1850, (410) 786-5554.

SUPPLEMENTARY INFORMATION: Section 4314(c) (1) through (5) of Title 5, U.S.C., requires each agency to establish, in accordance with regulations prescribed by the Office of Personnel Management, one or more SES performance review boards. The purpose of the board is to provide fair and impartial review of the initial appraisal prepared by the senior executive's immediate supervisor; to make recommendations to the appointing authority regarding the performance of the senior executive; and to make recommendations for monetary performance awards. Composition of the specific PRB will be determined on an ad hoc basis from among the individuals listed below:

Gale Arden, Director, Private Health Insurance Group

Gary Bailey, Deputy Director for Health Plans, Center for Beneficiary Choices

Dara Bendavid, Deputy Director, Office of Financial Management

Judith Berek, Senior Advisor on National Policy Implementation

Charlene Brown, Deputy Director, Center for Medicaid and State Operations

Gregory Carson, Director, Medicare Contractor Management

Rose Crum-Johnson, Atlanta Regional Administrator

James R. Farris, Dallas Regional Administrator

Jeffrey Flick, San Francisco Regional Administrator

Robert Foreman, Director, Office of Legislation

Richard Foster, Chief Actuary/Director Office of the Actuary

Wallace Fung, Deputy Director (Technology)

Jacqueline Garner, Chicago Regional Administrator

Thomas L. Grissom, Director, Center for Medicare Management

Thomas Gustafson, Deputy Director, Center for Medicare Management

Stuart Guterman, Director, Office of Research, Development and Information

Thomas Hamilton, Director, Office of Survey and Certification

Timothy B. Hill, Director, Office of Financial Management

Gary Kavanagh, Director, Business Systems Operations Group

Carmen Keller, Director, Office of Medicare Adjudication

James Kerr, New York Regional Administrator

Thomas Kickham, Director, Partnership and Promotion Group

Mary Laureno, Director, Beneficiary Information Services Group

Timothy Love, Director, Office of Information Services

Sonia A. Madison, Philadelphia Regional Administrator

Gail McGrath, Director, Center for Beneficiary Choices

Michael McMullan, Deputy Director, Center for Beneficiary Choices

Regina McPhillips, Director, Beneficiary Education and Analysis Group

Solomon Mussey, Director, Office of Medicare and Medicaid Cost Estimates Group

Leslie V. Norwalk, Acting Deputy Administrator, Chair

Elizabeth Richter, Director, Hospital and Ambulatory Policy Group

Jean Sheil, Director, Family and Children's Health Program Group

Dennis Smith, Director, Center for Medicaid and State Operations

Robert A. Streimer, Deputy Director, Office of Clinical Standards and Quality

Stewart Streimer, Director, Provider Billing Group

Dallas Sweezy, Director, Public Affairs Office

Deborah Taylor, Deputy Director, Office of Financial Management

Joe Tilghman, Kansas City Regional Administrator

Alexander Trujillo, Denver Regional Administrator

Sean Tunis, Director, Office of Clinical Standards and Quality

Jacqueline White, Director, Office of Strategic Operations and Regulatory Affairs

Laurence Wilson, Director, Chronic Care Policy Group

Charlotte Yeh, Boston, Regional Administrator

Dated: December 2, 2003.
Leslie V. Norwalk,
Acting Deputy Administrator and Chief Operating Officer, Centers for Medicare & Medicaid Services.

[FR Doc. 03-30792 Filed 12-12-03; 8:45 am]

BILLING CODE 4120-01-P